ENVIRONMENTAL PROTECTION AGENCY

40 CFR Parts 58 and 81

[LA-31-1-7189a; FRL-7374-1]

Ambient Air Quality Surveillance and Designation of Areas for Air Quality Planning Purposes; Louisiana; Modification of Ozone Monitoring Season and Revisions to Geographical Boundaries of Air Quality Control Regions

AGENCY: Environmental Protection Agency (EPA).

ACTION: Direct final rule.

SUMMARY: The EPA is taking direct final action to revise the geographical boundaries of the three Air Quality Control Regions (AQCRs) in the State of Louisiana, which are the Southern Louisiana-Southeast Texas AQCR, the Shreveport-Texarkana-Tyler AQCR, and the Monroe-El Dorado AQCR. The EPA is also taking direct final action to shorten the ozone season for the Monroe-El Dorado and Shreveport-Texarkana-Tyler AQCRs, from year-round, to March 1 through October 31. EPA is taking this action in response to a June 12, 1995, letter from the Governor of Louisiana requesting that EPA revise the AQCR boundaries and ozone seasons in order to provide for more effective and efficient air quality management in the State of Louisiana.

DATES: This rule is effective on November 12, 2002 without further notice, unless we receive adverse comment by October 10, 2002. If we receive such comment, we will publish a timely withdrawal in the Federal Register informing the public that this rule will not take effect.

ADDRESSES: Written comments on this action should be addressed to Mr. Thomas H. Diggs, Chief, Air Planning Section (6PD-L), at the EPA Region 6 Office listed below. Copies of documents relevant to this action are available for public inspection during normal business hours at the following locations. Anyone wanting to examine these documents should make an appointment with the appropriate office at least 24 hours in advance.

Environmental Protection Agency, Region 6, Air Planning Section (6PD-L), 1445 Ross Avenue, Suite 700, Dallas, Texas 75202-2733.

Louisiana Department of Environmental Quality, Air Quality Division, H. B. Garlock Building, 7290 Bluebonnet Blvd., Baton Rouge, LA 70810.

FOR FURTHER INFORMATION CONTACT: Joe Kordzi of the EPA Region 6 Air Planning Section at (214) 665-7186 and at the address above.

SUPPLEMENTARY INFORMATION: Throughout this document wherever “we,” “us,” or “our” is used, we mean the EPA.

Table of Contents

I. What Action is EPA Taking?

II. What are the AQCRs and Ozone Seasons in Louisiana?

III. How is EPA Changing the AQCR Boundaries and Ozone Monitoring Seasons in Louisiana?

IV. What is EPA's Authority to Revise AQCRs and Ozone Monitoring seasons?

V. How do these Revisions Affect other States' AQCRs and Ozone Seasons?

VI. Is Coordination with the other States Required?

VII. How do air Quality Data Support a Revision to the Ozone season in two Louisiana AQCRs?

VIII. Why is this a “Final Action?”

IX. What Administrative Requirements Apply for this Action?

I. What Action Is EPA Taking?

In this rulemaking, we are approving a June 12, 1995, request from the Governor of Louisiana to:

1. Revise the geographical boundaries of the three AQCRs in the State, and;

2. Shorten the ozone season, for the Louisiana parishes located in two of these AQCRs, from year-round to March 1 through October 31.

The Governor requested these revisions to the AQCR boundaries and ozone ambient air monitoring seasons in order to maximize the staff resources dedicated to providing air quality control services to the citizens of the State.

II. What Are the AQCRs and Ozone Seasons in Louisiana?

The three AQCRs in Louisiana are as follows:

AQCR 019—Monroe (Louisiana)-El Dorado (Arkansas) Interstate (Codified at 40 CFR 81.92)

AQCR 022—Shreveport-Texarkana-Tyler Interstate (Arkansas-Louisiana-Oklahoma-Texas) (Codified at 40 CFR 81.94)

AQCR 106—Southern Louisiana-Southeast Texas Interstate (Codified at 40 CFR 81.53).

The ozone monitoring season is currently year-round for all three AQCRs.

III. How Is EPA Changing the AQCR Boundaries and Ozone Monitoring Seasons in Louisiana?

In this rulemaking, we are taking direct final action to:

1. Transfer Avoyelles, Rapides and Vernon Parishes from the Southern Louisiana-Southeast Texas AQCR to the Shreveport-Texarkana-Tyler AQCR;

2. Transfer Grant Parish from the Southern Louisiana-Southeast Texas AQCR to the Monroe-El Dorado AQCR; and

3. Shorten the ozone season, for the Monroe-El Dorado and Shreveport-Texarkana-Tyler AQCRs, from year-long (January 1 through December 31) to March 1 through October 31.

IV. What Is EPA's Authority To Revise AQCRs and Ozone Monitoring Seasons?

The EPA designates boundaries of AQCRs under section 107 of the Federal Clean Air Act (Act), and codifies them at 40 CFR part 81, subpart B (Designation of Air Quality Control Regions). A Governor may request, under section 107(e) of the Act, a realignment of the AQCRs in the State if the realignment will provide for more efficient and effective air quality management.

40 CFR 58.13(a)(3) allows EPA Regional Administrators to exempt particular periods or seasons from the requirements to collect ambient air quality data at State and Local Ambient Monitoring Stations (SLAMS). Appendix H of 40 CFR part 50 also mentions such waivers for continuous ozone monitoring requirements where it can be demonstrated that exceedences of the ozone national ambient air quality standards (NAAQS) are extremely unlikely. Such exemptions or waivers take the form of a formal change to 40 CFR part 58, Appendix D, section 2.5, published as a final rule in the Federal Register by the Regional Administrator. Regional Offices must coordinate with EPA Headquarters on exemptions or waivers affecting National Ambient Monitoring Stations (NAMS). Either a State, EPA Regional Office, or EPA Headquarters may initiate the revision to a State's ozone season.

V. How Do These Revisions Affect Other States' AQCRs and Ozone Seasons?

Moving four parishes from the Southern Louisiana-Southeast Texas AQCR to the northern Louisiana AQCRs will change the overall boundaries for all three interstate AQCRs (019, 022, and 106). However, these changes do not affect to which AQCRs the counties in Texas, Oklahoma, and Arkansas are assigned. Revising the ozone monitoring season for those Louisiana parishes assigned to AQCRs 019 and 022 does not alter the official monitoring seasons for the States of Texas, Arkansas, and Oklahoma.

VI. Is Coordination With the Other States Required?

A State must obtain permission from the Governor of a neighboring State to revise an AQCR if EPA determines that the realignment will significantly affect the air pollution concentrations in the neighboring State. (See section 107(e) of the Act.) We have determined that the Louisiana AQCR realignments will not significantly impact air quality in the neighboring States because:

1. The four Louisiana parishes being moved are currently in compliance with the one-hour ozone NAAQS, and;

2. The affected parishes' inventories of anthropogenic, or man-made, precursor emissions (i.e., nitrogen oxides and volatile organic compounds) are quite small.

Thus, we believe that coordination with the neighboring States is not required in order to approve this revision to the Louisiana AQCR boundaries.

As stated above in part IV of this rulemaking, either a State, EPA Regional Office, or EPA Headquarters may request a revision to a State's ozone season. Coordination among States is not required in order for Regional Administrators to grant such requests for exemption or waiver from the requirements to collect ambient ozone air quality data. We have determined that the revision to the ozone monitoring season for the northern Louisiana parishes (in AQCRs 019, 022) is appropriate because historical one- and 8-hour ozone data indicate that ozone exceedences are extremely unlikely to occur outside the months of March through October.

VII. How Do Air Quality Data Support a Revision to the Ozone Season in Two Louisiana AQCRs?

The State's request to shorten the ozone season, for AQCRs 019 and 022, included an analysis of historical (1987-1993) one-hour ozone data collected at both SLAMS and NAMS monitoring sites in Louisiana. As recommended by EPA's “Guideline on Modification to Monitoring Seasons for Ozone (March 1990),” we reviewed the monitoring data submitted to determine the potential for one-hour ozone exceedences throughout the year, and concluded that modification to the ozone season, from year-round to March 1 through October 31, was appropriate. We also reviewed more recent (1994-2001) one-hour ozone data to ensure that the monitors in northern Louisiana had not exceeded the 1-hour NAAQS outside the months of March through October since the State had submitted its request.

On July 18, 1997, EPA promulgated the 8-hour ozone standard (62 FR 38856)¹. In July 1998, EPA subsequently released a new guidance document concerning ozone monitoring season selection and modification.² In the guidance, EPA provided a methodology for calculating new 8-hour ozone monitoring seasons. We have reviewed historical (1987-2001) 8-hour ozone data for AQCRs 019 and 022,³ consistent with the July 1998 guidance. We determined that no exceedences occurred outside the months of March through October during this period. Thus, shortening the ozone monitoring season for Louisiana AQCRs 019 and 022, from year-round to March 1 through October 31, will not result in the potential to miss days in which the 8-hour ozone standard is exceeded.

¹ On May 14, 1999, the U.S. Court of Appeals for the District of Columbia Circuit ruled that the 8-hour ozone standard could not be enforced by EPA. Although the Court of Appeals determined that the 8-hour standard could not be enforced, it did not vacate the standard. Hence, the 8-hour standard remained in effect. While appealing this decision to the U.S. Supreme Court, EPA reinstated the one-hour standard in areas where it had been revoked. (65 FR 45182, July 20, 2000). On February 27, 2001, the U.S. Supreme Court upheld the 8-hour standard and instructed EPA to develop an implementation plan for the 8-hour standard that is consistent with the Supreme Court's opinion. Whitman v. American Trucking Assoc., Inc., 531 U.S. 457, 121 S. Ct. 903 (2001).

² “Guideline for Selecting and Modifying the Ozone Monitoring Season Based on an 8-Hour Ozone Standard (EPA-454/R-98-001),” EPA Office of Air Quality Planning and Standards, dated July 9, 1998.

³ For this review, EPA Region 6 used all available data as entered into EPA's Aerometric Information Retrieval System (AIRS).

Therefore, we are agreeing with Louisiana's conclusions that shortening the ambient ozone monitoring season for AQCRs 019 and 022, from year-round to March 1 through October 31, will provide significant cost savings for the State without reducing the effectiveness of the ozone monitoring program. Since this action affects two NAMS sites located in these AQCRs, we have coordinated our approval of the revised ozone season with EPA Headquarters.

As recommended in the new ozone season guidance, we will periodically review the historical 8-hour ozone data following this change to the ozone season to determine whether the March 1 through October 31 monitoring season is still appropriate.

VIII. Why Is This a “Final Action?”

We are publishing this rule without prior proposal because we view this as a noncontroversial amendment and anticipate no adverse comment. However, in the “Proposed Rules” section of today's Federal Register publication, we are publishing a separate document that will serve as the proposal to approve the revisions to the AQCR boundaries and ozone monitoring season if adverse comments are received. This rule will be effective on November 12, 2002, without further notice unless we receive adverse comment by October 10, 2002. If EPA receives adverse comment, we will publish a timely withdrawal in the Federal Register informing the public that the rule will not take effect. We will address all public comments in a subsequent final rule based on the proposed rule. We will not institute a second comment period on this action. Any parties interested in commenting must do so at this time.

IX. What Administrative Requirements Apply for This Action?

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 12, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 58

Environmental protection, Air pollution control, Intergovernmental relations, Reporting and recordkeeping requirements.

40 CFR Part 81

Air pollution control, National parks, Wilderness areas.

Dated: August 27, 2002.
Lawrence E. Starfield,
Acting Regional Administrator, Region 6.

40 CFR parts 58 and 81, chapter I, title 40 of the Code of Federal Regulations are amended as follows:

PART 58—[AMENDED]

1. The authority citation for part 58 continues to read as follows:

Authority: 42 U.S.C. 7401 et seq.

2. Part 58, Appendix D, section 2.5: the table entitled “Ozone Monitoring Season By State” is amended by revising the entry for Louisiana to read as follows:

Appendix D to Part 58—Network Design for State and Local Air Monitoring Stations (SLAMS) and National Air Monitoring Stations (NAMS) and Photochemical Assessment Monitoring Stations (PAMS)

* * * * *

Ozone Monitoring Season by State
State | Begin month | End month
* * * * * * *
Louisiana AQCRs 019, 022 | March | October.
Louisiana AQCR 106 | January | December.
* * * * * * *

* * * * *

PART 81—[AMENDED]

1. The authority citation for part 81 continues to read as follows:

Authority: 42 U.S.C. 7401 et seq.

Subpart B—Designation of Air Quality Control Regions

2. Section 81.53 is amended by revising the entry for Louisiana to read as follows:

§ 81.53 Southern Louisiana-Southeast Texas Interstate Air Quality Control Region.

* * * * *

In the State of Louisiana: Acadia Parish, Allen Parish, Ascension Parish, Assumption Parish, Beauregard Parish, Calcasieu Parish, Cameron Parish, East Baton Rouge Parish, East Feliciana Parish, Evangeline Parish, Iberia Parish, Iberville Parish, Jefferson Davis Parish, Jefferson Parish, Lafayette Parish, Lafourche Parish, Livingston Parish, Orleans Parish, Plaquemines Parish, Pointe Coupee Parish, St. Bernard Parish, St. Charles Parish, St. Helena Parish, St. James Parish, St. John the Baptist Parish, St. Landry Parish, St. Martin Parish, St. Mary Parish, St. Tammany Parish, Tangipahoa Parish, Terrebonne Parish, Vermilion Parish, Washington Parish, West Baton Rouge Parish, West Feliciana Parish.

* * * * *

3. Section 81.92 is amended by revising the entry for Louisiana to read as follows:

§ 81.92 Monroe (Louisiana)-El Dorado (Arkansas) Interstate Air Quality Control Region.

* * * * *

In the State of Louisiana: Caldwell Parish, Catahoula Parish, Concordia Parish, East Carroll Parish, Franklin Parish, Grant Parish, La Salle Parish, Madison Parish, Morehouse Parish, Ouachita Parish, Richland Parish, Tensas Parish, Union Parish, West Carroll Parish.

* * * * *

4. Section 81.94 is amended by revising the entry for Louisiana to read as follows:

§ 81.94 Shreveport-Texarkana-Tyler Interstate Air Quality Control Region.

* * * * *

In the State of Louisiana: Avoyelles Parish, Bienville Parish, Bossier Parish, Caddo Parish, Claiborne Parish, De Soto Parish, Jackson Parish, Lincoln Parish, Natchitoches Parish, Rapides Parish, Red River Parish, Sabine Parish, Vernon Parish, Webster Parish, Winn Parish.

* * * * *

Subpart C—Section 107 Attainment Status Designations

4. In § 81.319, the carbon monoxide table and the ozone table are amended by revising the list of parishes in AQCRs 019, 022, and 106 to read as follows:

§ 81.319 Louisiana.

* * * * *

Louisiana—Carbon Monoxide
Designated area | Designation: Date¹ | Designation: Type | Classification: Date¹ | Classification: Type
AQCR 019 Monroe-El Dorado Interstate |  | Unclassifiable/Attainment
Caldwell Parish
Catahoula Parish
Concordia Parish
East Carroll Parish
Franklin Parish
Grant Parish
La Salle Parish
Madison Parish
Morehouse Parish
Ouachita Parish
Richland Parish
Tensas Parish
Union Parish
West Carroll Parish
AQCR 022 Shreveport-Texarkana-Tyler Interstate |  | Unclassifiable/Attainment
Avoyelles Parish
Bienville Parish
Bossier Parish
Caddo Parish
Claiborne Parish
De Soto Parish
Jackson Parish
Lincoln Parish
Natchitoches Parish
Rapides Parish
Red River Parish
Sabine Parish
Vernon Parish
Webster Parish
Winn Parish
AQCR 106 Southern Louisiana-Southeast Texas Interstate |  | Unclassifiable/Attainment
Acadia Parish
Allen Parish
Ascension Parish
Assumption Parish
Beauregard Parish
Calcasieu Parish
Cameron Parish
East Baton Rouge Parish
East Feliciana Parish
Evangeline Parish
Iberia Parish
Iberville Parish
Jefferson Davis Parish
Jefferson Parish
Lafayette Parish
Lafourche Parish
Livingston Parish
Orleans Parish
Plaquemines Parish
Pointe Coupee Parish
St. Bernard Parish
St. Charles Parish
St. Helena Parish
St. James Parish
St. John the Baptist Parish
St. Landry Parish
St. Martin Parish
St. Mary Parish
St. Tammany Parish
Tangipahoa Parish
Terrebonne Parish
Vermilion Parish
Washington Parish
West Baton Route Parish
West Feliciana Parish
¹ This date is November 15, 1990, unless otherwise noted.

Louisiana—Ozone (1-Hour Standard)
Designated area | Designation: Date¹ | Designation: Type | Classification: Date¹ | Classification: Type
* * * * * * *
AQCR 019 Monroe-El Dorado Interstate |  | Unclassifiable/Attainment
Caldwell Parish
Catahoula Parish
Concordia Parish
East Carroll Parish
Franklin Parish
La Salle Parish
Madison Parish
Morehouse Parish
Ouachita Parish
Richland Parish
Tensas Parish
Union Parish
West Carroll Parish
AQCR 022 Shreveport-Texarkana-Tyler Interstate |  | Unclassifiable/Attainment
Avoyelles Parish
Bienville Parish
Bossier Parish
Caddo Parish
Claiborne Parish
De Soto Parish
Jackson Parish
Lincoln Parish
Natchitoches Parish
Rapides Parish
Red River Parish
Sabine Parish
Vernon Parish
Webster Parish
Winn Parish
AQCR 106 Southern Louisiana-Southeast Texas Interstate |  | Unclassifiable/Attainment
Acadia Parish
Allen Parish
Assumption Parish
Cameron Parish
East Feliciana Parish
Evangeline Parish
Iberia Parish
Jefferson Davis Parish
Plaquemines Parish
St. Helena Parish
St. John the Baptist Parish
St. Landry Parish
St. Martin Parish
St. Tammany Parish
Tangipahoa Parish
Terrebonne Parish
Vermilion Parish
Washington Parish
West Feliciana Parish
¹ This date is October 18, 2000, unless otherwise noted.

* * * * *

[FR Doc. 02-22983 Filed 9-9-02; 8:45 am]

BILLING CODE 6560-50-P